ENVIRONMENTAL PROTECTION AGENCY

[EPA-HQ-OECA-2014-0071; FRL-9994-35-OMS]

Information Collection Request Submitted to OMB for Review and Approval; Comment Request; NESHAP for Publicly Owned Treatment Works (Renewal)

AGENCY: Environmental Protection Agency (EPA).

ACTION: Notice.

SUMMARY: The Environmental Protection Agency has submitted an information collection request (ICR), NESHAP for Publicly Owned Treatment Works (EPA ICR Number 1891.10, OMB Control Number 2060-0428), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 1, 2019.

ADDRESSES: Submit your comments, referencing Docket ID Number EPA-HQ-OECA-2014-0071, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that EPA will be collecting, are available in the public docket for this ICR. The docket can be viewed online at www.regulations.gov, or in person, at the EPA Docket Center, WJC West, Room 3334, 1301 Constitution Ave. NW, Washington, DC. The telephone number for the Docket Center is (202) 566-1744. For additional information about EPA's public docket, visit: www.epa.gov/dockets.

Abstract: The National Emissions Standards for Hazardous Air Pollutants (NESHAP) for Publicly Owned Treatment Works (POTW) (40 CFR part 63, subpart VVV) apply to both existing and new POTW located at a major source of hazardous air pollutants (HAP), or to Group 1 POTW that are either area or major sources. New facilities include those that either commenced construction or re-construction after the date of proposal. This information is being collected to assure compliance with 40 CFR part 63, subpart VVV.

In general, all NESHAP standards require initial notifications, performance tests, and periodic reports by the owners/operators of the affected facilities. These notifications, reports, and records are essential in determining compliance, and are required of all affected facilities subject to NESHAP.

Form Numbers: None.

Respondents/affected entities: Owners and operators of publicly owned treatment works.

Respondent's obligation to respond: Mandatory (40 CFR part 63, subpart VVV).

Estimated number of respondents: 13 (total).

Frequency of response: Initially, occasionally, and semiannually.

Total estimated burden: 7 hours (per year). Burden is defined at 5 CFR 1320.3(b).

Total estimated cost: $351 (per year), includes no annualized capital or operation & maintenance costs.

Changes in the Estimates: There is a decrease in the respondent burden from the most recently- approved ICR. This decrease is due to changes in the estimates. The previous ICR renewal had included burden for existing sources to submit periodic reports and maintain records; however, the 2016 amendments clarified that the 13 existing sources are not required to submit periodic reports or maintain records.

Courtney Kerwin,
Director, Regulatory Support Division.

[FR Doc. 2019-11349 Filed 5-30-19; 8:45 am]

BILLING CODE 6560-50-P